DEPARTMENT OF ENERGY

Federal Energy Regulatory Commission

Notice of Commission Staff Attendance at Midwest ISO Meetings

January 4, 2008.

The Federal Energy Regulatory Commission hereby gives notice that members of the Commission and Commission staff may attend the following Midwest ISO-related meetings:

• Advisory Committee (10 a.m.-4 p.m., EST)

○ January 16

○ February 20

○ March 12

○ May 14

○ June 18

○ July 16

○ August 20 (St. Paul Hotel, 350 Market St., St. Paul, MN)

○ September 17

○ October 15

○ November 19

○ December 10

• Board of Directors (8:30 a.m.-10 a.m., EST)

○ January 17

○ March 13

○ April 17

○ June 19

○ August 21 (St. Paul Hotel, 350 Market St., St. Paul, MN)

○ October 16

○ December 11

• Board of Directors Markets Committee (8 a.m.-10 a.m., EST)

○ March 12

○ May 14

○ June 18

○ July 16

○ August 20 (St. Paul Hotel, 350 Market St., St. Paul, MN)

○ September 17

○ October 15

○ November 19

○ December 10

• Midwest ISO Informational Forum (3 p.m.-5 p.m., EST)

○ January 15

○ February 19

○ March 11

○ April 15

○ May 13

○ June 17

○ July 15

○ August 19 (St. Paul Hotel, 350 Market St., St. Paul, MN)

○ September 16

○ October 14

○ November 18

○ December 9

• Midwest ISO Market Subcommittee (9 a.m.-5 p.m., ET)

○ January 8

○ February 5

○ March 4

○ April 1

○ May 6

○ June 3

○ July 8

○ August 5

○ September 9

○ October 7

○ November 5

○ December 2

Except as noted, all of the meetings above will be held at: Midwest ISO Headquarters, 701 City Center Drive, 720 City Center Drive, and 630 West Carmel Drive, Carmel, IN 46032.

• Fourth Annual Midwest ISO Stakeholders' Meeting (10 a.m.-5 p.m., EST)

○ April 16 (University Place Hotel & Conference Center, 850 West Michigan Street, Indianapolis, IN 46202)

Further information may be found at http://www.midwestiso.org.

The above-referenced meetings are open to the public.

The discussions at each of the meetings described above may address matters at issue in the following proceedings:

Docket No. ER02-488, Midwest Independent Transmission System Operator, Inc.

Docket Nos. ER02-2595, et al., Midwest Independent Transmission System Operator, Inc.

Docket No. ER04-375, Midwest Independent Transmission System Operator, Inc., et al.

Docket Nos. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Docket No. ER05-752, Midwest Independent Transmission System Operator, Inc. and PJM Interconnection, L.L.C.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket Nos. RM05-25 and RM05-17, Preventing Undue Discrimination and Preference in Transmission Service.

Docket Nos. ER06-18, et al., Midwest Independent Transmission System Operator, Inc.

Docket Nos. EC06-4 and ER06-20, LGE Energy LLC, et al.

Docket No. ER06-22, Midwest Independent Transmission System Operator, Inc.

Docket No. ER06-27, Midwest Independent Transmission System Operator, Inc., et al.

Docket No. ER06-56, Midwest Independent Transmission System Operator, Inc.

Docket No. ER06-192, Midwest Independent Transmission System Operator, Inc.

Docket No. ER06-360, et al., Midwest Independent Transmission System Operator, Inc., et al.

Docket No. ER06-356, Midwest Independent Transmission System Operator, Inc.

Docket No. ER06-532, Midwest Independent Transmission System Operator, Inc.

Docket No. ER06-731, Independent Market Monitor for the Midwest Independent Transmission System Operator, Inc.

Docket No. ER06-1420, Midwest Independent Transmission System Operator, Inc.

Docket No. ER06-1552, Midwest Independent Transmission System Operator, Inc.

Docket No. EL06-31, Midwest Independent Transmission System Operator, Inc., et al.

Docket No. EL06-49, Midwest Independent Transmission System Operator, Inc., et al.

Docket No. EL06-80, Midwest Independent Transmission System Operator, Inc.

Docket No. AD06-9, Comments on the Technical Conference on Seams Issues for RTOs and ISOs in the Eastern Interconnection.

Docket No. RM06-16, Mandatory Reliability Standards for Bulk-Power System.

Docket No. RM06-22, Reliability Standard Compliance and Enforcement in Regions with Independent System Operators and Regional Transmission Organizations.

Docket No. ER07-478, Midwest Independent Transmission System Operator, Inc.

Docket No. ER07-532, Midwest Independent Transmission System Operator, Inc.

Docket No. ER07-815, Midwest Independent Transmission System Operator, Inc.

Docket No. ER07-940, Midwest Independent Transmission System Operator, Inc., et al.

Docket No. ER07-1141, International Transmission Co., et al.

Docket No. ER07-1144, American Transmission Co. LLC, et al.

Docket No. ER07-1182, Midwest Independent Transmission System Operator, Inc.

Docket Nos. ER07-1233 and ER07-1261, Midwest Independent Transmission System Operator, Inc.

Docket No. ER07-1372, Midwest Independent Transmission System Operator, Inc.

Docket No. ER07-1388, Midwest Independent Transmission System Operator, Inc.

Docket No. ER07-1417, Midwest Independent Transmission System Operator, Inc., et al.

Docket No. EL07-44, Dakota Wind Harvest, LLC v. Midwest Independent Transmission System Operator, Inc., et al.

Docket No. EL07-79, Midwest Independent Transmission System Operator, Inc.

Docket Nos. EL07-86, EL07-88, EL07-92, Ameren Services Co., et al. v. Midwest Independent Transmission System Operator, Inc., et al.

Docket No. EL07-100, E.ON U.S. LLC v. Midwest Independent Transmission System Operator, Inc.

Docket No. RM07-3, Facilities Design, Connections and Maintenance Reliability Standards.

Docket Nos. RM07-19 and AD07-7, Wholesale Competition in Regions with Organized Electric Markets.

Docket Nos. RR07-2, et al., Delegation Agreement Between the North American Electric Reliability Corporation and Midwest Reliability Organization, et al.

Docket No. AD07-12, Reliability Standard Compliance and Enforcement in Regions with Independent System Operators and Regional Transmission Organizations.

Docket No. OA07-57, Midwest Independent Transmission System Operator, Inc.

Docket No. ER08-15, Midwest ISO Transmission Owners.

Docket No. ER08-55, Midwest Independent Transmission System Operator, Inc., et al.

Docket No. ER08-109, Midwest Independent Transmission System Operator, Inc.

Docket Nos. ER08-185 and ER08-186, Ameren Energy Marketing Company, et al.

Docket No. ER08-207, Midwest Independent Transmission System Operator, Inc.

Docket No. ER08-209, Midwest Independent Transmission System Operator, Inc.

Docket No. ER08-269, Midwest Independent Transmission System Operator, Inc.

Docket No. ER08-296, Midwest Independent Transmission System Operator, Inc.

Docket No. ER08-394, Midwest Independent Transmission System Operator, Inc.

Docket No. ER08-404, Midwest Independent Transmission System Operator, Inc.

Docket No. OA08-4, Midwest ISO Transmission Owners, et al.

Docket No. OA08-14, Midwest Independent Transmission System Operator, Inc.

Docket No. OA08-42, Midwest Independent Transmission System Operator, Inc.

Docket No. OA08-53, Midwest Independent Transmission System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Kimberly D. Bose,
Secretary.

[FR Doc. E8-403 Filed 1-11-08; 8:45 am]

BILLING CODE 6717-01-P